DEPARTMENT OF THE TREASURY

Submission for OMB Review; Comment Request

July 11, 2012.

The Department of the Treasury will submit the following information collection request to the Office of Management and Budget (OMB) for review and clearance in accordance with the Paperwork Reduction Act of 1995, Public Law 104-13, on or after the date of publication of this notice.

DATES: Comments should be received on or before August 15, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Financial Crimes Enforcement Network (FinCEN)

OMB Number: 1506-0014.

Type of Review: Extension without change of a currently approved collection.

Title: Report of International Transportation of Currency or Monetary Instruments.

Form: FinCEN Form 105.

Abstract: FinCEN, and the Department of Homeland Security (DHS) and the DHS Bureaus, are required under 31 U.S.C. 5316(a) to collect information regarding mailing, shipment, or transportation of currency or monetary instruments of more than $10,000 in value into or out of the United States.

Affected Public: Individuals or Households.

Estimated Total Burden Hours: 140,000.

OMB Number: 1506-0026.

Type of Review: Extension without change of a currently approved collection.

Title: Customer Identification Programs for Banks, Savings Associations, Credit Unions, and Certain Non-federally Regulated Banks.

Abstract: Banks, savings associations, credit unions, and certain non-federally regulated banks are required to develop and maintain customer identification programs. See 31 CFR 1020.100.

Affected Public: Private Sector: Businesses or other for-profits.

Estimated Total Burden Hours: 242,660.

OMB Number: 1506-0030.

Type of Review: Extension without change of a currently approved collection.

Title: Anti-Money Laundering Programs for Dealers in Precious Metals, Precious Stones, or Jewels.

Abstract: Desires in precious metals, stones, or jewels are required to establish and maintain a written anti-money laundering program. A copy of the written program must be maintained for five years. See 31 CFR 1027.100.

Affected Public: Private Sector: Businesses or other for-profits.

Estimated Total Burden Hours: 20,000.

OMB Number: 1506-0033.

Type of Review: Extension without change of a currently approved collection.

Title: Customer Identification Programs for Mutual Funds.

Abstract: Mutual Funds are required to establish and maintain customer identification programs. A copy of the written program must be maintained for five years. See 31 CFR 1024.220.

Affected Public: Private Sector: Businesses or other for-profits.

Estimated Total Burden Hours: 266,700.

OMB Number: 1506-0034.

Type of Review: Extension without change of a currently approved collection.

Title: Customer Identification Programs for Broker-Dealers.

Abstract: Broker-dealers are required to establish and maintain a customer identification program. A copy of the program must be maintained for five years. See 31 CFR 1023.220.

Affected Public: Private Sector: Businesses or other for-profits.

Estimated Total Burden Hours: 630,896.

Dawn D. Wolfgang,
Treasury PRA Clearance Officer.

[FR Doc. 2012-17256 Filed 7-13-12; 8:45 am]

BILLING CODE 4810-02-P